ENVIRONMENTAL PROTECTION AGENCY

[EPA-HQ-RCRA-2008-0330; FRL-8582-5]

Agency Information Collection Activities; Proposed Collection; Comment Request; Information Collection Request for the Schools Chemical Cleanout Campaign (SC3); EPA ICR No. 2285.01

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before August 18, 2008.

ADDRESSES: Submit your comments, identified by Docket ID No. EPA-HQ-RCRA-2008-0330, by one of the following methods:

• http://www.regulations.gov: Follow the on-line instructions for submitting comments.

• E-mail: rcra-docket@epa.gov.

• Fax: (202) 566-9744.

• Mail: Resource Conservation and Recovery Act (RCRA) Docket, Environmental Protection Agency, 2822T, 1200 Pennsylvania Ave., NW., Washington, DC 20460.

• Hand Delivery: Resource Conservation and Recovery Act (RCRA) Docket in the EPA Docket Center (EPA/DC), EPA West Building, Room 3334, 1301 Constitution Avenue, NW., Washington, DC. Such deliveries are only accepted during the Docket's normal hours of operation, and special arrangements should be made for deliveries of boxed information.

Instructions: Direct your comments to Docket ID No. EPA-HQ-RCRA-2008-0330. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Cynthia Merse, Hazardous Waste Minimization and Management Division, Office of Solid Waste, Mail Code: 5302P, Environmental Protection Agency, 1200 Pennsylvania Ave., NW., Washington, DC 20460; telephone number: 703-308-0020; fax number: 703-308-8433; e-mail address: merse.cynthia@epa.gov.

SUPPLEMENTARY INFORMATION:

How Can I Access the Docket and/or Submit Comments?

EPA has established a public docket for this ICR under Docket ID No. EPA-HQ-RCRA-2008-0330, which is available for online viewing at http://www.regulations.gov, or in person viewing at the RCRA Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the RCRA Docket is 202-566-0270.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does this Apply to?

Affected entities: Entities potentially affected by this action are the EPA Partner Organizations that provide SC3 resources and services to schools.

Title: Information Collection Request for the Schools Chemical Cleanout Campaign (SC3).

ICR numbers: EPA ICR No. 2285.01.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Schools Chemical Cleanout Campaign (SC3) was created in 2004, building on regional, state, tribal, and local SC3 programs across the nation. The National SC3 program was launched in March of 2007. The National SC3 program uses a variety of innovative approaches to achieve three goals: (1) Removal of outdated and dangerous chemicals from K-12 schools; (2) prevention of future accumulations of chemicals and reduction of accidents by establishing prevention activities such as good purchasing and management practices; and, (3) raising national awareness of the problem.

One of the ways that EPA accomplishes its goals is by partnering with organizations that volunteer to assist schools in the management of the schools' chemicals and the removal of schools' chemical waste. There are currently eleven Partners.

To evaluate the current state of the program and determine what the future direction should be, EPA intends to conduct a voluntary survey of its industry Partners to gather information on their activities and the results of their work under the program. To this end, EPA has prepared a draft survey form with four main goals:

• Collect general information about the Partners (e.g., reasons for joining the SC3 Program, future plans, etc.);

• Identify the accomplishments of Partners under the SC3 Program;

• Identify additional resources needed by Partners to accomplish their goals; and

• Collect lessons learned from Partners on what has worked and what has not worked under the Program, so this information can be shared with others.

EPA intends to ask Partners to complete and submit the survey annually. The survey will be available to Partners in an electronic format. They can submit completed surveys by e-mail, postal mail, or fax.

Burden Statement: The annual public reporting and recordkeeping burden for this collection of information is estimated to average one hour per response for Partners to complete the survey for the first time and forty-five minutes for Partners to update the survey in subsequent years. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR will provide a detailed explanation of the Agency's estimate, which is only briefly summarized here:

Estimated total annual number of potential respondents: 33.

Frequency of response: Annually.

Estimated total average number of responses for each respondent: One per year.

Estimated total annual burden hours: 28 hours.

Estimated total annual costs: $1,247. This includes an estimated cost of $1,247 for labor and an estimated cost of $0 for capital investment or maintenance and operational costs.

What is the Next Step in the Process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 10, 2008
Matt Hale,
Director, Office of Solid Waste.

[FR Doc. E8-13829 Filed 6-17-08; 8:45 am]

BILLING CODE 6560-50-P